DEPARTMENT OF THE INTERIOR

Fish and Wildlife Service

[FWS-R4-ES-2017-N146; FXES11130400000EA-123-FF04EF1000]

Endangered and Threatened Wildlife and Plants; Availability of Proposed Low-Effect Habitat Conservation Plan for the Sand Skink, Orange County, FL

AGENCY: Fish and Wildlife Service, Interior.

ACTION: Notice of availability; request for comments.

SUMMARY: We, the Fish and Wildlife Service (Service), have received an application for an incidental take permit (ITP) under the Endangered Species Act of 1973, as amended (ESA). Lennar Corporation (Applicant) is requesting a 15-year ITP for take of the sand skink. We request public comments on the permit application and accompanying proposed habitat conservation plan (HCP), as well as on our preliminary determination that the plan qualifies as low-effect under the National Environmental Policy Act (NEPA). To make this determination, we used our environmental action statement and low-effect screening form, which are also available for review.

DATES: To ensure consideration, please send your written comments by January 22, 2018.

ADDRESSES: You may submit written comments and request copies of the application, HCP, environmental action statement, or low-effect screening form by any one of the following methods:

Email: northflorida@fws.gov. Use “Attn: Permit number TE50490C-0” as your subject line.

Fax: Field Supervisor, (904) 731-3191, “Attn: Permit number TE50490C-0.”

U.S. mail: Field Supervisor, Jacksonville Ecological Services Field Office Attn: Permit number TE50490C-0, U.S. Fish and Wildlife Service, 7915 Baymeadows Way, Suite 200, Jacksonville, FL 32256.

In-person: You may deliver comments during regular business hours at the office address listed above under U.S. Mail. You may inspect the application, HCP, environmental action statement, or low-effect screening form by appointment during normal business hours at the same address.

FOR FURTHER INFORMATION CONTACT: Erin M. Gawera, telephone: (904) 731-3121; email: erin_gawera@fws.gov.

SUPPLEMENTARY INFORMATION:

Background

Section 9 of the ESA (16 U.S.C. 1531 et seq.) and our implementing Federal regulations in the Code of Federal Regulations (CFR) at 50 CFR part 17 prohibit the “take” of fish or wildlife species listed as endangered or threatened. Take of listed fish or wildlife is defined under the ESA as “to harass, harm, pursue, hunt, shoot, wound, kill, trap, capture, or collect, or to attempt to engage in any such conduct” (16 U.S.C. 1532(19)). However, under limited circumstances, we issue permits to authorize incidental take—i.e., take that is incidental to, and not the purpose of, the carrying out of an otherwise lawful activity.

Regulations governing incidental take permits for endangered and threatened species are at 50 CFR 17.22 and 17.32, respectively. The ESA's take prohibitions do not apply to federally listed plants on private lands unless such take would violate State law. In addition to meeting other criteria, an incidental take permit's proposed actions must not jeopardize the existence of federally listed fish, wildlife, or plants.

Applicant's Proposal

Lennar Corporation is requesting to take of approximately .31 acres (ac) of occupied sand skink (Neoseps reynoldsi) foraging and sheltering habitat incidental to construction of a residential development. The 38.44-ac project site is identified with parcel identification number 05-24-27-0000-00-001 and located within section 5, Township 24 South, Range 27 East in Orange County, Florida. The project also includes the clearing, infrastructure building, and landscaping associated with constructing a residential development. The Applicant proposes to mitigate for the take of the threatened sand skink by purchasing 0.62 mitigation credits within The Backbone Conservation Bank or another Service-approved sand skink conservation bank.

Our Preliminary Determination

We have determined that the Applicant's proposal, including the proposed mitigation and minimization measures, would have minor or negligible effects on the species covered in the HCP. Therefore, we have determined that the ITP for this project is “low effect” and qualifies for categorical exclusion under NEPA, as provided by 43 CFR 46.205 and 46.210. A low-effect HCP is one involving (1) minor or negligible effects on federally listed or candidate species and their habitats, and (2) minor or negligible effects on other environmental values or resources.

Next Steps

We will evaluate the HCP and comments we receive to determine whether the ITP application meets the requirements of section 10(a) of the ESA. We will also evaluate whether issuance of the ITP complies with section 7 of the ESA by conducting an intra-Service consultation. We will use the results of this consultation, in combination with the above findings, in our final analysis to determine whether or not to issue the ITP. If the requirements are met, we will issue ITP number TE50490C-0 to the Applicant.

Public Comments

If you wish to comment on the permit application, HCP, or associated documents, you may submit comments by any one of the methods listed above in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Authority

We provide this notice under section 10 of the ESA and NEPA regulation 40 CFR 1506.6.

Jay B. Herrington,
Field Supervisor, Jacksonville Field Office, Southeast Region.

[FR Doc. 2017-27601 Filed 12-21-17; 8:45 am]

BILLING CODE 4333-15-P